DEPARTMENT OF EDUCATION

RIN 1820-ZA24

National Institute on Disability and Rehabilitation Research (NIDRR)

AGENCY: Office of Special Education and Rehabilitative Services, Department of Education.

ACTION: Notice of final priority.

SUMMARY: The Assistant Secretary for Special Education and Rehabilitative Services announces a final priority for Collaborative Research Projects in Traumatic Brain Injury (TBI) under the Disability and Rehabilitation Research Projects (DRRP) Program under the National Institute on Disability and Rehabilitation Research (NIDRR) for fiscal year (FY) 2003 and later years. We take this action to focus research attention on areas of national need. We intend this priority to improve the rehabilitation services and outcomes for individuals with disabilities.

EFFECTIVE DATE: This priority is effective August 29, 2003.

FOR FURTHER INFORMATION CONTACT: Donna Nangle. Telephone: (202) 205-5880.

If you use a telecommunications device for the deaf (TDD), you may call the TDD number at (202) 205-4475 or via the Internet: donna.nangle@ed.gov

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP Program is to plan and conduct research, demonstration projects, training, and related activities that help to maximize the full inclusion and integration of individuals with disabilities into society and to improve the effectiveness of services authorized under the Rehabilitation Act of 1973, as amended (the Act). An applicant for assistance under this program must demonstrate in its application how it will address, in whole or in part, the needs of individuals with disabilities from minority backgrounds (34 CFR 350.40(a)). The approaches an applicant may take to meet this requirement are found in 34 CFR 350.40(b).

General DRRP Requirements

• Involve, as appropriate, individuals with disabilities or their family members, or both, and persons who are members of groups that have traditionally been underrepresented in all aspects of the research as well as in design of clinical services and dissemination activities.

• Demonstrate knowledge of culturally appropriate methods of data collection, including understanding of culturally sensitive measurement approaches.

• Collaborate with other related projects, including the other funded Traumatic Brain Injury Model Systems (TBIMS) projects.

This priority supports the goals of President Bush's New Freedom Initiative (NFI) and is in concert with NIDRR's Long-Range Plan (the Plan). The NFI can be accessed on the Internet at: http://www.whitehouse.gov/news/freedominitiative/freedominiative.html

The Plan can be accessed on the Internet at: http://www.ed.gov/offices/OSERS/NIDRR/Products.

We published a notice of proposed priority for the Collaborative Research Projects in Traumatic Brain Injury (TBI) in the Federal Register on April 16, 2003 (68 FR 18601). No comments were received. There are no significant differences between the notice of proposed priority and this notice of final priority.

Note: This notice does not solicit applications. In any year in which we choose to use this priority, we invite applications through a notice in the Federal Register. A notice inviting applications for FY 2003 awards was published in the Federal Register on May 14, 2003 (68 FR 26171). When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) Awarding additional points, depending on how well or the extent to which the application meets the priority (34 CFR 75.105(c)(2)(i)); or (2) selecting an application that meets the priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Background

The background statement for the following priority was published in the notice of proposed priority on April 16, 2003 (68 FR 18601).

Priority

The Assistant Secretary intends to fund Traumatic Brain Injury collaborative research projects for the purpose of generating new knowledge through research to improve treatment and services delivery outcomes for persons with TBI. A collaborative research project must:

(1) Collaborate with three or more of the 16 NIDRR TBI Model Systems projects. The three can include the lead project plus additional projects;

(2) Conduct research on questions of significance to TBI rehabilitation, using clearly identified research designs such as randomized control trials, observational research methodologies, or longitudinal studies. The research must focus on areas identified in the NFI and the Plan, ensuring that each project has sufficient sample size and methodological rigor to generate robust findings. Areas of interest include health and function, technology for function, community integration and independent living, employment, and long-term outcomes.

(3) Disseminate research findings to clinical and consumer audiences, using accessible formats.

(4) Evaluate impact of research findings on improved outcomes for persons with TBI.

Selection Criterion

The emphasis on research rigor plus the importance of the collaborative research program require a modification to the selection criteria for this program. The Secretary will add a criterion to reflect increased emphasis on research management. This criterion reads as follows: There must be a clearly delineated plan for research management, with focus on quality controls for data collection, management of research protocols, and provisions for oversight at collaborating sites.

Executive Order 12866

This notice of final priority has been reviewed in accordance with Executive Order 12866. Under the terms of the order, we have assessed the potential costs and benefits of this regulatory action.

The potential costs associated with the notice of final priority are those resulting from statutory requirements and those we have determined as necessary for administering this program effectively and efficiently.

In assessing the potential costs and benefits—both quantitative and qualitative—of this notice of final priority, we have determined that the benefits of the priority justify the costs.

Summary of Potential Posts and Benefits

The potential cost associated with this priority is minimal while the benefits are significant. Grantees may anticipate costs associated with completing the application process in terms of staff time, copying, and mailing or delivery. The use of e-Application technology reduces mailing and copying costs significantly.

The benefits of the TBIMS and collaborative projects have been well established over the years that similar projects have been completed. This priority will generate new knowledge through research to improve treatment and services delivery outcomes for persons with TBI through collaborative research projects.

The benefit of this priority and application project requirements will be the establishment of new collaborative projects that generate, disseminate, and promote the use of new information that will improve the options for disabled individuals to perform regular activities in the community.

Applicable Program Regulations: 34 CFR part 350.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.133A, Disability Rehabilitation Research Project.)

Program Authority: 29 U.S.C. 762(g) and 764(b).

Dated: July 25, 2003.
Loretta Petty Chittum,
Acting Assistant Secretary for Special Education and Rehabilitative Services.

[FR Doc. 03-19336 Filed 7-29-03; 8:45 am]

BILLING CODE 4000-01-P